DEPARTMENT OF LABOR

Employment and Training Administration

[TA-W-71,194]

Delphi Rochester Operation, Delphi Powertrain Division, a Subsidiary of Delphi Corporation, Currently Known as GM Components Holding, LLC, Including On-Site Leased Workers From Bartech Rochester, New York; Amended Certification Regarding Eligibility to Apply for Worker Adjustment Assistance

In accordance with Section 223 of the Trade Act of 1974, as amended (“Act”), 19 U.S.C. 2273, the Department of Labor issued a Certification of Eligibility to Apply for Worker Adjustment Assistance on July 24, 2009, applicable to the workers of Delphi Rochester Operations, Delphi Powertrain Division, A subsidiary of Delphi Corporation, including on-site leased workers from Bartech, Rochester, New York. The notice was published in the Federal Register on September 2, 2009 (74 FR 45477).

At the request of a company official, the Department reviewed the certification for workers of the subject firm. The workers are engaged in activities related to the production of automotive emission devices and fuel and air components.

Information shows that effective October 7, 2009, the Delphi Rochester Operations became known as GM Components Holding, LLC. Information also shows that the workers separated from employment at the subject firm had their wages reported under a separate unemployment insurance (UI) tax account for GM Components Holding, LLC.

According, the Department is amending this certification to properly reflect this matter.

The intent of the Department's certification is to include all workers of the subject firm who were adversely affected by the shift in production of automotive emission devices and fuel and air components to China.

The amended notice applicable to TA-W-71,194 is hereby issued as follows:

All workers of Delphi Rochester Operations, Delphi Powertrain Division, a subsidiary of Delphi Corporation, currently known as GM Components Holding, LLC, Rochester, New York, including on-site leased workers from Bartech, who became totally or partially separated from employment on or after June 9, 2009, through two years from the date of certification, and all workers in the group threatened with total or partial separation from employment on date of certification through two years from the date of certification, are eligible to apply for adjustment assistance under Chapter 2 of Title II of the Trade Act of 1974, as amended.

Signed in Washington, DC, this 17th day of November 2009.
Elliott S. Kushner,
Certification Officer, Division Of Trade Adjustment Assistance.

[FR Doc. E9-29142 Filed 12-7-09; 8:45 am]

BILLING CODE 4510-FN-P